DEPARTMENT OF ENERGY

Federal Energy Regulatory Commission

Combined Notice of Filings #2

Take notice that the Commission received the following electric rate filings:

Docket Numbers: ER10-2179-020; ER10-2181-019; ER10-2182-019.

Applicants: Calvert Cliffs Nuclear Power Plant, LLC, Nine Mile Point Nuclear Station, LLC, R.E. Ginna Nuclear Power Plant, LLC.

Description: Notice of Non-Material Change in Status of Calvert Cliffs Nuclear Power Plant, LLC, et al.

Filed Date: 8/8/13.

Accession Number: 20130808-5137.

Comments Due: 5 p.m. ET 8/29/13.

Docket Numbers: ER12-569-002; ER12-775-001; ER10-1849-001; ER11-2037-001; ER12-2227-002; ER10-1887-001; ER10-1920-003; ER10-1928-003; ER10-1952-002; ER10-1961-001; ER12-1228-001; ER10-2720-003; ER11-4428-003; ER12-1880-002; ER10-1971-010.

Applicants: Blackwell Wind, LLC, Blackwell Wind, LLC, Cimarron Wind Energy, LLC, Elk City Wind, LLC, Elk City II Wind, LLC, Ensign Wind, LLC, FPL Energy Cowboy Wind, LLC, FPL Energy Oklahoma Wind, LLC, FPL Energy Sooner Wind, LLC, Gray County Wind Energy, LLC, High Majestic Wind Energy Center, LLC, High Majestic Wind II, LLC, Minco Wind, LLC, Minco Wind II, LLC, Minco Wind III, LLC, NextEra Energy Power Marketing, LLC.

Description: Amending December 27, 2012 NextEra Companies Triennial Market Power Update for the Southwest Power Pool Region.

Filed Date: 8/8/13.

Accession Number: 20130808-5111.

Comments Due: 5 p.m. ET 8/29/13.

Docket Numbers: ER12-2178-007; ER10-2172-018; ER12-2311-007; ER11-2016-013; ER10-2184-018; ER10-2183-015; ER10-1048-015; ER10-2192-018; ER11-2056-012; ER10-2178-018; ER10-2174-018; ER11-2014-015; ER11-2013-015; ER10-3308-017; ER10-1020-014; ER10-1145-014; ER10-1144-013; ER10-1078-014; ER10-1079-010; ER10-1080-014; ER11-2010-015; ER10-1081-014; ER10-2180-018; ER11-2011-014; ER12-2201-007; ER12-2528-006; ER11-2009-014; ER11-3989-012; ER10-1143-014; ER11-2780-014; ER12-1829-007; ER11-2007-013; ER12-1223-012; ER11-2005-015.

Applicants: AV Solar Ranch 1, LLC, Baltimore Gas and Electric Company, Beebe Renewable Energy, LLC, Cassia Gulch Wind Park, LLC, CER Generation, LLC, CER Generation II, LLC, Commonwealth Edison Company, Constellation Energy Commodities Group Maine, LLLC, Constellation Mystic Power, LLC, Constellation NewEnergy, Inc., Constellation Power Source Generation, Inc., Cow Branch Wind Power, LLC, CR Clearing, LLC, Criterion Power Partners, LLC, Exelon Framingham, LLC, Exelon Generation Company, LLC, Exelon New Boston, LLC, Exelon West Medway, LLC, Exelon Wind 4, LLC, Exelon Wyman, LLC, Handsome Lake Energy, LLC, Harvest II Windfarm, LLC, Harvest Windfarm, LLC, High Mesa Energy, LLC, Michigan Wind 1, LLC, Michigan Wind 2, LLC, PECO Energy Company, Safe Harbor Water Power Corporation, Shooting Star Wind Project, LLC, Tuana Springs Energy, LLC, Wildcat Wind, LLC, Wind Capital Holdings, LLC.

Description: Notice of Non-Material Change in Status of AV Solar Ranch 1, LLC, et al.

Filed Date: 8/8/13.

Accession Number: 20130808-5152.

Comments Due: 5 p.m. ET 8/29/13.

Docket Numbers: ER13-692-006.

Applicants: Midcontinent Independent System Operator, Inc.

Description: 2013-08-08 OASIS Compliance Errata Filing to be effective 4/15/2013.

Filed Date: 8/8/13.

Accession Number: 20130808-5119.

Comments Due: 5 p.m. ET 8/29/13.

Docket Numbers: ER13-1783-001.

Applicants: Duke Energy Progress, Inc.

Description: Revised Service Agreement No. 134 under Duke Energy Progress OATT to be effective 6/1/2013.

Filed Date: 8/8/13.

Accession Number: 20130808-5126.

Comments Due: 5 p.m. ET 8/29/13.

Docket Numbers: ER13-1931-001.

Applicants: South Jersey Energy ISO3, LLC.

Description: South Jersey Energy ISO3, LLC submits Amendment to Application for Market-Based Rates to be effective 7/11/2013.

Filed Date: 8/8/13.

Accession Number: 20130808-5055.

Comments Due: 5 p.m. ET 8/29/13.

Docket Numbers: ER13-2043-001.

Applicants: South Jersey Energy ISO4, LLC.

Description: South Jersey Energy ISO4, LLC submits Amendment to Application for Market-Based Rates to be effective 7/27/2013.

Filed Date: 8/8/13.

Accession Number: 20130808-5056.

Comments Due: 5 p.m. ET 8/29/13.

Docket Numbers: ER13-2044-001.

Applicants: South Jersey Energy ISO5, LLC.

Description: South Jersey Energy ISO5, LLC submits Amendment to Application for Market-Based Rates to be effective 7/27/2013.

Filed Date: 8/8/13.

Accession Number: 20130808-5057.

Comments Due: 5 p.m. ET 8/29/13.

Docket Numbers: ER13-2132-000.

Applicants: Nevada Power Company.

Description: Rate Schedule No. 135 SCE Eldorado Interim Interconnection Agmt Concurrence to be effective 6/25/2013.

Filed Date: 8/8/13.

Accession Number: 20130808-5117.

Comments Due: 5 p.m. ET 8/29/13.

Docket Numbers: ER13-2133-000.

Applicants: Granite State Electric Company.

Description: Borderline Sales—Rate Update to be effective 5/1/2013.

Filed Date: 8/8/13.

Accession Number: 20130808-5134.

Comments Due: 5 p.m. ET 8/29/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 8, 2013.
Nathaniel J. Davis, Sr.,
Deputy Secretary.

[FR Doc. 2013-19798 Filed 8-14-13; 8:45 am]

BILLING CODE 6717-01-P